FEDERAL DEPOSIT INSURANCE CORPORATION

Privacy Act of 1974; System of Records

AGENCY: Federal Deposit Insurance Corporation (FDIC).

ACTION: Notice of new system of records.

SUMMARY: Pursuant to the provisions of the Privacy Act of 1974, as amended, the FDIC is establishing FDIC-037, FDITECH Information. This system of records maintains information collected by FDITECH, FDIC's innovation arm. FDITECH is the focal point for the FDIC's efforts to promote responsible innovation in the financial services sector. Through partnerships and engagements, FDITECH allows innovators to engage with the FDIC, provide ideas, and assist the FDIC in the implementation of innovative technology ideas.

DATES: This action will become effective on December 3, 2021. The routine uses in this action will become effective on January 3, 2022, unless the FDIC makes changes based on comments received. Written comments should be submitted on or before January 3, 2022.

ADDRESSES: Interested parties are invited to submit written comments identified by Privacy Act Systems of Records by any of the following methods:

• Agency website: https://www.fdic.gov/resources/regulations/federal-register-publications/index.html. Follow the instructions for submitting comments on the FDIC website.

• Email: Comments@fdic.gov.

• Mail: Shannon Dahn, Chief, Privacy Program, Federal Deposit Insurance Corporation, 550 17th Street NW, Washington, DC 20429.

• Hand Delivery: Comments may be hand-delivered to the guard station at the rear of the 17th Street NW building (located on F Street), on business days between 7:00 a.m. and 5:00 p.m.

FOR FURTHER INFORMATION CONTACT: Shannon Dahn, Chief, Privacy Program, (703) 516-5500, privacy@fdic.gov.

SUPPLEMENTARY INFORMATION: Pursuant to the Privacy Act of 1974, FDIC is establishing a new system of records, FDIC-037 FDITECH Information. FDITECH promotes FDIC's mission to maintain stability and public confidence in the nation's financial system by promoting the adoption of innovative and transformative technologies in the financial services sector. FDITECH works with private sector innovators and its regulatory partners to help lay the foundation for the future of banking. Its staff engages across the financial and non-financial sectors to encourage and help facilitate the development of technology-driven capabilities that create safer banks, provide consumers better and safer choices, and make the FDIC more efficient.

Through partnerships and engagements with universities, companies, and private citizens, FDITECH allows innovators to engage with the FDIC, provide ideas, and assist the FDIC in the implementation of innovative technology ideas. As part of the engagement process, FDIC may review information to ensure that prospective participants and partners do not have conflicts or issues that may disqualify them from working with the FDIC. This SORN describes information collected from individuals who seek information or seek to participate in activities hosted by FDITECH.

SYSTEM NAME AND NUMBER:

FDITECH Information, FDIC-037.

SECURITY CLASSIFICATION:

Unclassified.

SYSTEM LOCATION:

The systems of record is located on the FDIC intranet. Duplicate systems may exist, in whole or in part, at secure sites and on secure servers maintained by third-party service providers for the FDIC.

SYSTEM MANAGER(S):

Chief Innovation Officer, 3501 N. Fairfax Drive, Arlington, VA 22226, innovation@fdic.gov.

AUTHORITY FOR MAINTENANCE OF THE SYSTEM:

12 U.S.C. 1819(a), 1820(a); 15 U.S.C. 3719, as amended.

PURPOSE(S) OF THE SYSTEM:

FDIC collects the information in this system of record to facilitate an individual's participation in projects and programs hosted by FDITECH. FDIC may use the information collected to communicate and collaborate with interested individuals or entities on FDITECH initiatives and to ensure that any individuals are eligible to work with the FDIC or participate in FDITECH activities. Additionally, FDIC may use the information to follow up with individuals who interact with FDITECH for future collaboration.

CATEGORIES OF INDIVIDUALS COVERED BY THE SYSTEM:

Individuals who request information from FDITECH or participate or partner in FDITECH initiatives.

CATEGORIES OF RECORDS IN THE SYSTEM:

Categories of records includes: Name; phone number; email address; current or previous organizational or institutional affiliation; areas of expertise (e.g., developer, designer, data scientist); relevant work experience; eligibility check results; industry type.

RECORD SOURCE CATEGORIES:

The information in this system is collected in part directly from the individual or submitted on behalf of an individual by a team lead. Information may also be collected from FDIC source systems.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside the FDIC as a routine use as follows:

(1) To appropriate Federal, State, local and foreign authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when the FDIC is a party to the proceeding or has a significant interest in the proceeding, to the extent that the information is determined to be relevant and necessary;

(3) To a congressional office in response to an inquiry made by the congressional office at the request of the individual who is the subject of the record;

(4) To appropriate agencies, entities, and persons when (a) the FDIC suspects or has confirmed that there has been a breach of the system of records; (b) the FDIC has determined that as a result of the suspected or confirmed breach there is a risk of harm to individuals, the FDIC (including its information systems, programs, and operations), the Federal Government, or national security; the FDIC and (c) the disclosure made to such agencies, entities, and persons is reasonably necessary to assist in connection with the FDIC's efforts to respond to the suspected or confirmed breach or to prevent, minimize, or remedy such harm;

(5) To another Federal agency or Federal entity, when the FDIC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(6) To other U.S. and international financial regulators, when necessary to facilitate regulatory discussions around technology innovations.

(7) To participants of FDITECH initiatives and other entities, to the extent that the disclosure facilitates collaboration and discussion around technology innovation.

POLICIES AND PRACTICES FOR STORAGE OF RECORDS:

Records are stored in electronic media.

POLICIES AND PRACTICES FOR RETRIEVAL OF RECORDS:

Electronic media are indexed and retrieved by team name, program name, individual name, organization, and industry type.

POLICIES AND PRACTICES FOR RETENTION AND DISPOSAL OF RECORDS:

Registration records and any other associated records are retained for 5 years. Disposal is by deletion or other appropriate disposal methods.

ADMINISTRATIVE, TECHNICAL, AND PHYSICAL SAFEGUARDS:

Electronic records are access restricted and accessible only by authorized personnel according to a need to know.

RECORD ACCESS PROCEDURES:

Individuals wishing to request access to records about them in this system of records must submit their request in writing to the FDIC FOIA & Privacy Act Group, 550 17th Street NW, Washington, DC 20429, or email efoia@fdic.gov. Requests must include full name, address, and verification of identity in accordance with FDIC regulations at 12 CFR part 310.

CONTESTING RECORD PROCEDURES:

Individuals wishing to contest or request an amendment to their records in this system of records must submit their request in writing to the FDIC FOIA & Privacy Act Group, 550 17th Street NW, Washington, DC 20429, or email efoia@fdic.gov. Requests must specify the information being contested, the reasons for contesting it, and the proposed amendment to such information in accordance with FDIC regulations at 12 CFR part 310.

NOTIFICATION PROCEDURES:

Individuals wishing to know whether this system contains information about them must submit their request in writing to the FDIC FOIA & Privacy Act Group, 550 17th Street NW, Washington, DC 20429, or email efoia@fdic.gov. Requests must include full name, address, and verification of identity in accordance with FDIC regulations at 12 CFR part 310.

EXEMPTIONS PROMULGATED FOR THE SYSTEM:

None.

HISTORY:

None.

Federal Deposit Insurance Corporation.
Dated at Washington, DC, on November 30, 2021.
James P. Sheesley,
Assistant Executive Secretary.

[FR Doc. 2021-26259 Filed 12-2-21; 8:45 am]

BILLING CODE 6714-01-P